DEPARTMENT OF DEFENSE

Department of the Army

Availability for Non-Exclusive, Exclusive, or Partially Exclusive Licensing of U.S. Patent Concerning Antivesicant Compounds and Methods of Making and Using Thereof

AGENCY: Department of the Army, DoD.

ACTION: Notice.

SUMMARY: In accordance with 37 CFR 404.6 and 404.7, announcement is made of the availability for licensing of U.S. Patent No. 6,664,280 entitled “Antivesicant Compounds and Methods of Making and Using Thereof,” granted December 16, 2003. Foreign rights are also available (PCT/US01/23562). The United States Government, as represented by the Secretary of the Army, has rights in this invention.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates generally to antivesicant compounds and methods of making and using thereof. In particular, the present invention relates to antivesicant compounds comprising 2-mercaptopyridine-N-oxide as a backbone structure.

Luz D. Ortiz,
Army Federal Register Liaison Officer.

[FR Doc. 04-820 Filed 1-13-04; 8:45 am]

BILLING CODE 3710-08-M